DEPARTMENT OF HOMELAND SECURITY

U.S. Customs and Border Protection

Accreditation and Approval of Oiltest, Inc., as a Commercial Gauger and Laboratory

AGENCY: U.S. Customs and Border Protection, Department of Homeland Security.

ACTION: Notice of accreditation and approval of Oiltest, Inc., as a commercial gauger and laboratory.

SUMMARY: Notice is hereby given, pursuant to CBP regulations, that Oiltest, Inc., has been approved to gauge petroleum and certain petroleum products and accredited to test petroleum and certain petroleum products for customs purposes for the next three years as of May 17, 2012.

DATES: Effective Dates: The accreditation and approval of Oiltest, Inc., as a commercial gauger and laboratory became effective on May 17, 2012. The next triennial inspection date will be scheduled for May 2015.

FOR FURTHER INFORMATION CONTACT: Approved Gauger and Accredited Laboratories Manager, Laboratories and Scientific Services, U.S. Customs and Border Protection, 1331 Pennsylvania Avenue NW., Suite 1500N, Washington, DC 20229, tel. 202-344-1060.

SUPPLEMENTARY INFORMATION: Notice is hereby given pursuant to 19 CFR 151.12 and 19 CFR 151.13, that Oiltest, Inc., 2718 Westside Drive, Pasadena, TX 77502, has been approved to gauge petroleum and certain petroleum products and accredited to test petroleum and certain petroleum products for customs purposes, in accordance with the provisions of 19 CFR 151.12 and 19 CFR 151.13. Oiltest, Inc. is approved for the following gauging procedures for petroleum and certain petroleum products per the American Petroleum Institute (API) Measurement Standards:

API chapters | Title
3 | Tank gauging.
8 | Sampling.
11 | Physical property.
17 | Maritime measurement.

Oiltest, Inc. is accredited for the following laboratory analysis procedures and methods for petroleum and certain petroleum products set forth by the U.S. Customs and Border Protection Laboratory Methods (CBPL) and American Society for Testing and Materials (ASTM):

CBPL No. | ASTM | Title
27-03 | ASTM D 4006 | Standard Test Method for Water in Crude Oil by Distillation.
27-04 | ASTM D 95 | Standard Test Method for Water in Petroleum Products and Bituminous Materials by Distillation.
27-06 | ASTM D 473 | Standard Test Method for Sediment in Crude Oils and Fuel Oils by the Extraction Method.
27-11 | ASTM D 445 | Standard Test Method for Kinematic Viscosity of Transparent and Opaque Liquids (the Calculation of Dynamic Velocity).
27-13 | ASTM D 4294 | Standard Test Method for Sulfur in Petroleum and Petroleum Products by Energy-Dispersive X-ray Fluorescence Spectrometry.
27-46 | ASTM D 5002 | Standard Test Method for Density and Relative Density of Crude Oils by Digital Density Analyzer.
27-48 | ASTM D 4052 | Standard Test Method for Density and Relative Density of Liquids by Digital Density Meter.
27-50 | ASTM D 93 | Standard Test Methods for Flash-Point by Pensky-Martens Closed Cup Tester.

Anyone wishing to employ this entity to conduct laboratory analyses and gauger services should request and receive written assurances from the entity that it is accredited or approved by the U.S. Customs and Border Protection to conduct the specific test or gauger service requested. Alternatively, inquiries regarding the specific test or gauger service this entity is accredited or approved to perform may be directed to the U.S. Customs and Border Protection by calling (202) 344-1060. The inquiry may also be sent to cbp.labhq@dhs.gov. Please reference the Web site listed below for a complete listing of CBP approved gaugers and accredited laboratories. http://cbp.gov/linkhandler/cgov/trade/basic_trade/labs_scientific_svcs/commercial_gaugers/gaulist.ctt/gaulist.pdf

Dated: January 23, 2014.
Ira S. Reese,
Executive Director, Laboratories and Scientific Services.

[FR Doc. 2014-02794 Filed 2-7-14; 8:45 am]

BILLING CODE 9111-14-P